DEPARTMENT OF DEFENSE

Office of the Secretary

[Docket No. DoD-2009-OS-0173]

Submission for OMB Review; Comment Request

ACTION: Notice.

The Department of Defense has submitted to OMB for clearance, the following proposal for collection of information under the provisions of the Paperwork Reduction Act (44 U.S.C. Chapter 35).

DATES: Consideration will be given to all comments received by March 8, 2010.

Title and OMB Number: Voice of Industry Survey; OMB Control Number 0704-TBD.

Type of Request: New.

Number of Respondents: 12,938.

Responses per Respondent: 1.

Annual Responses: 12,938.

Average Burden per Response: .5 hour.

Annual Burden Hours: 6,469 hours.

Needs and Uses: Executive Order 12829, “National Industrial Security Program (NISP)” Section 202(a) stipulates that the Secretary of Defense shall serve as the Executive Agent for inspecting and monitoring the contractors, licensees, and grantees who require or will require access to or who store or will store classified information; and for determining the eligibility for access to classified information of contractors, licensees, and grantees and their respective employees. The Executive Agent has the authority to issue, after consultation with affected agencies, standard forms or other standardization that will promote the implementation of the NISP. The Cognizant Security Agency (CSA), designated by the NISPOM, is responsible for determining the frequency of Security Reviews which may be increased or decreased for sufficient reason, consistent with risk management principles. Department of Defense Directive 5105.42, “Defense Security Service,” dated May 13, 1999, delineates the mission, functions and responsibilities of DSS. DSS functions and responsibilities include the administration and implementation of the Defense portion of the NISP. This survey will provide feedback on how well DSS is doing with respect to the administration and implementation of the NISP. Participation in the survey is strictly voluntary.

Affected Public: Business or other-for-profit; not-for-profit institutions.

Frequency: Annually.

Respondent's Obligation: Voluntary.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: January 26, 2010.
Patricia L. Toppings,
OSD Federal Register Liaison Officer, Department of Defense.

[FR Doc. 2010-2457 Filed 2-4-10; 8:45 am]

BILLING CODE 5001-06-P